NUCLEAR REGULATORY COMMISSION

Privacy Act of 1974; New System of Records

AGENCY: Nuclear Regulatory Commission.

ACTION: Notice of New System of Records.

SUMMARY: The Nuclear Regulatory Commission (NRC) is providing notice of the establishment of a new system of records, NRC-12, Child Care Tuition Assistance Program Records.

EFFECTIVE DATE: The new system of records will become effective without further notice on January 28, 2002 unless comments received on or before that date cause a contrary decision.

ADDRESSES: Send comments to: Secretary, U.S. Nuclear Regulatory Commission, Washington, DC 20555-0001. Attention: Rulemakings and Adjudications staff. Hand deliver comments to 11555 Rockville Pike, Rockville, Maryland, between 7:30 a.m. and 4:15 p.m. on Federal workdays. Copies of comments received may be examined at either the NRC Public Document Room, One White Flint North, 11555 Rockville Pike (first floor), Rockville, Maryland, or the NRC's Agencywide Documents Access and Management System (ADAMS). Comments are also available at the NRC's rulemaking Web site at http://ruleforum.llnl.gov. This site also enables you to submit comments. Comments may be uploaded as files (any format), if your Web browser supports that function. For information about the interactive rulemaking Web site, contact Ms. Carol Gallagher, 301-415-5905; e-mail: cag@nrc.gov.

FOR FURTHER INFORMATION CONTACT: Sandra S. Northern, Privacy Program Officer, FOIA/Privacy Act Team, Web, Publishing, and Distribution Services Division, Office of the Chief Information Officer, U.S. Nuclear Regulatory Commission, Washington, DC 20555-0001, telephone: 301-415-6879; e-mail: ssn@nrc.gov.

SUPPLEMENTARY INFORMATION: The establishment of this new system of records, NRC-12, Child Care Tuition Assistance Program Records, will allow the NRC to collect and maintain family income data from NRC employees for the purpose of determining their eligibility for child care subsidies, and the amounts of the subsidies. It will also maintain information from the employee's child care provider(s) for verification purposes, e.g., that the provider is licensed. Data will be collected from the tuition assistance application forms submitted by employees.

A report on the proposed new system of records is being sent to the Office of Management and Budget (OMB), the Committee on Governmental Affairs of the U.S. Senate, and the Committee on Government Reform of the U.S. House of Representatives as required by the Privacy Act and OMB Circular No. A-130, “Federal Agency Responsibilities for Maintaining Records About Individuals.”

According, the NRC proposes to add NRC-12 to read as follows:

NRC-12

System name:

Child Care Tuition Assistance Program Records

System Location:

Office of Human Resources, NRC, Two White Flint North, 11545 Rockville Pike, Rockville, Maryland.

Categories of Individuals Covered by the System:

NRC employees who voluntarily apply for child care tuition assistance.

Categories of Records in the System:

These records include application forms for child care tuition assistance containing personal information, including employee (parent) name, social security number, grade, home and work telephone numbers, home and work addresses, total family income, names of children on whose behalf the parent is applying for tuition assistance, child's date of birth; information on child care providers used, including name, address, provider license number and State where issued, tuition cost, and provider tax identification number; and copies of IRS Form 1040 and 1040A for verification purposes.

Authority for Maintenance of the System:

Public Law 107-67, section 630 and Executive Order 9397.

Routine Uses of Records Maintained in the System, Including Categories of Users and the Purposes of Such Uses:

In addition to the disclosures permitted under subsection (b) of the Privacy Act, the NRC may disclose information contained in this system of records without the consent of the subject individual if the disclosure is compatible with the purpose for which the record was collected under the following routine uses:

a. To the Office of Personnel Management to provide statistical reports;

b. For any of the routine uses specified in the Prefatory Statement of General Routine Uses.

Policies and Practices for Storing, Retrieving, Accessing, Retaining and Disposition of Records in the System:

Storage:

Information may be collected on paper or electronically and may be stored as paper forms or on computers.

Retrievability:

Information may be retrieved by employee name or social security number.

Safeguards:

When not in use by an authorized person, paper records are stored in lockable file cabinets and computer records are protected by the use of passwords.

Retention and Disposal:

The records in this system are currently unscheduled and must be retained until the National Archives and Records Administration (NARA) approves a records disposition schedule for this material.

System Manager and Address:

Director, Office of Human Resources, U.S. Nuclear Regulatory Commission, Washington, DC 20555-0001.

Notification Procedure:

Individuals seeking to determine whether this system of records contains information pertaining to themselves should write to the Freedom of Information Act and Privacy Act (FOIA/PA) Officer, Office of the Chief Information Officer, U.S. Nuclear Regulatory Commission, Washington, DC 20555-0001, and comply with the procedures contained in NRC's Privacy Act regulations, 10 CFR part 9.

Record Access Procedure:

Same as “Notification procedure.”

Contesting Record Procedure:

Same as “Notification procedure.”

Record Source Categories:

Information in this system of records is obtained from NRC employees who apply for child care tuition assistance. Furnishing of the information is voluntary.

Dated at Rockville, MD, this 13th day of December, 2001.
For the Nuclear Regulatory Commission.
Stuart Reiter,
Chief Information Officer.

[FR Doc. 01-31219 Filed 12-18-01; 8:45 am]

BILLING CODE 7590-01-P